DEPARTMENT OF ENERGY

Federal Energy Regulatory Commission

Combined Notice of Filings

Take notice that the Commission has received the following Natural Gas Pipeline Rate and Refund Report filings:

Filings Instituting Proceedings

Docket Number: PR16-72-000.

Applicants: Jefferson Island Storage & Hub, L.L.C.

Description: Tariff filing per 284.123(e)/.224: JISH Revised Statement of Operating Terms and Conditions, Version 4.0.0 to be effective 9/20/2016; Filing Type: 770.

Filed Date: 9/14/2016.

Accession Number: 201609145056.

Comments/Protests Due: 5 p.m. ET 10/5/16.

Docket Number: PR16-73-000.

Applicants: Bridgeline Holdings, L.P.

Description: Tariff filing per 284.123(e) + (g): Bridgeline revised SOC to be effective 10/1/2016; Filing Type: 1280.

Filed Date: 9/16/2016.

Accession Number:201609165079 http://elibrary.ferc.gov/idmws/doc_info.asp?accession_num=20160415-5222.

Comments Due: 5 p.m. ET 10/7/16.

284.123(g) Protests Due: 5 p.m. ET 11/15/16.

Docket Numbers: RP16-1238-000.

Applicants: Transcontinental Gas Pipe Line Company.

Description: Compliance filing Annual Cash-Out Report Period Ending July 31, 2016.

Filed Date: 9/15/16.

Accession Number: 20160915-5168.

Comments Due: 5 p.m. ET 9/27/16.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP16-748-002.

Applicants: Gulf Shore Energy Partners, LP.

Description: Report Filing: Change the Effective Date to be effective N/A.

Filed Date: 9/16/16.

Accession Number: 20160916-5061.

Comments Due: 5 p.m. ET 9/28/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated September 19, 2016.
Nathaniel J. Davis, Sr.,
Deputy Secretary.

[FR Doc. 2016-23022 Filed 9-23-16; 8:45 am]

BILLING CODE 6717-01-P